DEPARTMENT OF LABOR

Employment and Training Administration

[TA-W-60,563]

General Chemical Performance Products, Repauno Products LLC, Gibbstown, NJ; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 10, 2007, applicable to workers of General Chemical Performance Products, Gibbstown, New Jersey. The notice was published in the Federal Register on January 25, 2007 (72 FR 3424).

At the request of the State agency, the Department reviewed the certification for workers of the subject firm. The workers were engaged in the production of sodium nitrite.

New information shows that in July 2006, General Chemical Performance Products purchased Repauno Products LLC. Workers separated from employment at the subject firm had their wages reported under separate unemployment insurance (UI) tax account for Repauno Products LLC.

Accordingly, the Department is amending the certification to properly reflect this matter.

The intent of the Department's certification is to include all workers of General Chemical Performance Products who were adversely affected by increased imports.

The amended notice applicable to TA-W-60,563 is hereby issued as follows:

“All workers of General Chemical Performance Products, Repauno Products LLC, Gibbstown, New Jersey, who became totally or partially separated from employment on or after December 6, 2005, through January 10, 2009, are eligible to apply for adjustment assistance under Section 223 of the Trade Act of 1974, and are also eligible to apply for alternative trade adjustment assistance under Section 246 of the Trade Act of 1974.”

Signed at Washington, DC, this 6th day of March 2007.
Elliott S. Kushner,
Certifying Officer, Division of Trade Adjustment Assistance.

[FR Doc. E7-4577 Filed 3-13-07; 8:45 am]

BILLING CODE 4510-FN-P